NUCLEAR REGULATORY COMMISSION

[Docket No. 030-34325; NRC-2010-0068]

Notice of Environmental Assessment Related to the Issuance of a License Amendment to Masters Materials License 03-23853-01VA, for Unrestricted Release of a Department of Veterans Affairs Facility in Gainesville, FL

AGENCY: Nuclear Regulatory Commission.

ACTION: Issuance of Environmental Assessment and Finding of No Significant Impact for License Amendment.

FOR FURTHER INFORMATION CONTACT: Katie Streit, Health Physicist, Materials Control, ISFSI, and Decommissioning Branch, Division of Nuclear Materials Safety, Region III, U.S. Nuclear Regulatory Commission, 2443 Warrenville Road, Lisle, Illinois 60532; Telephone: (630) 829-9621; fax number: (630) 515-1259; or by e-mail at Katherine.Streit@nrc.gov.

SUPPLEMENTARY INFORMATION:

I. Introduction

The U.S. Nuclear Regulatory Commission (NRC) is proposing to amend a materials permit held under Master Byproduct Materials License No. 03-23853-01VA. The permit is held by the Department of Veterans Affairs (the Licensee), for its Veteran Affairs (VA) North Florida/South Georgia Veterans Health System located in Gainesville, Florida. Issuance of the amendment would authorize release of Building 26 (the Facility) for unrestricted use. The Licensee will continue its operation of other facilities under this permit and its master materials license. The Licensee requested this action in a letter dated October 29, 2009 (ML093060270). The NRC has prepared an Environmental Assessment (EA) in support of this proposed action in accordance with the requirements of Title 10, Code of Federal Regulations (CFR), Part 51 (10 CFR Part 51). Based on the EA, the NRC has concluded that a Finding of No Significant Impact (FONSI) is appropriate with respect to the proposed action. The amendment will be issued to the Licensee following the publication of this FONSI and EA in the Federal Register.

II. Environmental Assessment

Identification of Proposed Action

The proposed action would approve the Licensee's October 29, 2009, materials permit amendment request, resulting in release of the Facility for unrestricted use. License No. 03-23853-01VA was issued on March 17, 2003, pursuant to 10 CFR Parts 30 and 35, and has been amended periodically since that time. This master license authorizes the Licensee to use byproduct materials at several Licensee facilities around the country, as authorized on a site-specific basis by permits issued by the Licensee's National Radiation Safety Committee. Under the license, the permits authorize the use of by-product materials for various medical and veterinary purposes, and for portable gauges.

Under the master material license permit, building 26 was used as a radioactive waste storage facility located at the VA North Florida/South Georgia Veterans Health System in Gainesville, Florida. The Facility is a storage shed of approximately 20x10x8 feet of space. Radioactive materials with long lived half-lives of greater than 120 days stored in the Facility were H-3, C-14, Na-22, Cl-36, and Ca-45. The licensee removed all licensed material from the Facility and completed final status surveys and decontamination of the Facility in October 2009.

Based on the licensee's historical knowledge of the site and the conditions of the Facility, the licensee determined that only routine decontamination activities, in accordance with their NRC approved, operating radiation safety procedures, were required. The licensee was not required to submit a decommissioning plan to the NRC because worker cleanup activities and procedures are consistent with those approved for routine operations. The licensee conducted surveys of the Facility and provided information to the NRC to demonstrate that Building 26 meets the criteria in Subpart E of 10 CFR Part 20 for unrestricted use.

Need for the Proposed Action

The licensee has ceased conducting license activities at the Facility, and seeks the unrestricted use of Building 26.

Environmental Impacts of the Proposed Actions

The historical review showed that the following radioactive materials with half-lives greater than 120 days were used: Hydrogen-3, Carbon-14, Sodium-22, Chlorine-36, and Calcium-45. Prior to performing the final status survey, the Licensee conducted decontamination activities, as necessary, in the areas of Building 26 affected by these radionuclides.

The licensee conducted final status surveys in August 2009 and October 2009 (ADAMS Accession No. ML093060270). The final status survey report was attached to the Licensee's amendment request dated October 29, 2009. The licensee elected to demonstrate compliance with the radiological criteria for unrestricted use as specified in 10 CFR 20.1402 by using the screening approach described in NUREG-1757, “Consolidated Decommissioning Guidance, Decommissioning Process for Material Licensees” Volume 1 (ML063000243). The licensee used the radionuclide-specific derived concentration guideline levels (DCGLs) developed by the NRC, which conservatively comply with the dose criterion in 10 CFR 20.1402. These DCGLs define the maximum amount of residual radioactivity on building surfaces, equipment, and materials that will satisfy the NRC requirement in Subpart E of 10 CFR Part 20 for unrestricted use. The licensee's final status survey results were below these DCGLs and are in compliance with the As Low As Reasonably Achievable (ALARA) requirement of 10 CFR 20.1402. The NRC thus finds that the licensee's final status survey results are acceptable.

Based on its review, the staff has determined that the affected environment and any environmental impacts associated with the proposed action are bounded by the impacts evaluated by the “Generic Environmental Impact Statement in Support of Rulemaking on Radiological Criteria for License Termination of NRC-Licensed Nuclear Facilities” (NUREG-1496) Volumes 1-3 (ML042310492, ML042320379, and ML042330385). The staff finds there were no significant environmental impacts from the use of radioactive material within Building 26. The NRC staff reviewed the docket file records and the final status survey report to identify any non-radiological hazards that may have impacted the environment surrounding the buildings. No such hazards or impacts to the environment were identified. The NRC has identified no other radiological or non-radiological activities in the area that could result in cumulative environmental impacts.

The NRC staff finds that the proposed release of Building 26 for unrestricted use is in compliance with 10 CFR 20.1402. Based on its review, the staff considered the impact of the residual radioactivity from Building 26 and concluded that the proposed action will not have a significant effect on the quality of the environment.

Environmental Impacts of the Alternatives to the Proposed Action

Due to the largely administrative nature of the proposed action, its environmental impacts are small. Therefore, the only alternative the staff considered is the no-action alternative, under which the staff would leave things as they are by simply denying the amendment request. This no-action alternative is not feasible because it conflicts with 10 CFR 30.36(d) requiring that decommissioning of byproduct material facilities be completed and approved by the NRC after licensed activities cease. The NRC's analysis of the licensee's final status survey data confirmed that Building 26 meet the requirements of 10 CFR 20.1402 for unrestricted use. Additionally, denying the amendment request would result in no change in current environmental impacts. The environmental impacts of the proposed action and the no-action alternative are therefore similar, and the no-action alternative is accordingly not further considered.

Conclusion

The NRC staff has concluded that the proposed action is consistent with the NRC's unrestricted use criteria specified in 10 CFR 20.1402. Because the proposed action will not significantly impact the quality of the human environment, the NRC staff concludes that the proposed action is the preferred alternative.

Agencies and Persons Consulted

On January 11, 2010 the NRC provided a draft of this EA to the State of Florida, Department of Health, Bureau of Radiation Control. The State provided no comments or questions.

The NRC staff has determined that the proposed action is of a procedural nature and will not affect listed species or critical habitat. Therefore, no further consultation is required under Section 7 of the Endangered Species Act. The NRC staff also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license amendment and supporting documentation, are available electronically at the NRC's Electronic Reading Room at http://www.nrc.gov/reading-rm/adams.html. From this site, you can access the NRC's image files of NRC's public documents. If you do not have access to ADAMS, or if there are problems in accessing the documents located in ADAMS, contact the NRC Public Document Room (PDR)

Reference staff at 1-800-397-4209, 301-415-4737, or by e-mail to pdr@nrc.gov. The documents related to this action are listed below, along with their ADAMS accession numbers.

1. National Health Physics Program Request for Decommissioning for Unrestricted Release of Building 26 at the VA North Florida/South Georgia Veterans Health System, Gainesville, Florida, dated October 29, 2009 (ADAMS Accession No. ML093060270).

2. Additional Information for Closeout of Building 26 North Florida/South Georgia Veterans Health System, Gainesville, Florida (ADAMS Accession No. ML100110095).

3. Title 10 Code of Federal Regulations, Part 20, Subpart E, “Radiological Criteria for License Termination.”

4. Title 10 Code of Federal Regulations, Part 51, “Environmental Protection Regulations for Domestic Licensing and Related Regulatory Function.”

5. NUREG-1556, Consolidated Guidance about Material Licenses, Volume 9.

6. NUREG-1757, Consolidated Decommissioning Guidance.

7. These documents may also be viewed electronically on the public computers located at the NRC's PDR, O1F21, One White Flint North, 11555 Rockville Pike, Rockville, MD 20852. The PDR reproduction contractor will copy documents for a fee.

Dated at Lisle, Illinois, this 17th day of February 2010.
For the Nuclear Regulatory Commission.
Christine A. Lipa,
Chief, Materials Control, ISFSI, and Decommissioning Branch, Division of Nuclear Materials Safety, Region III.

[FR Doc. 2010-3862 Filed 2-24-10; 8:45 am]

BILLING CODE 7590-01-P